DEPARTMENT OF TRANSPORTATION

Federal Aviation Administration

14 CFR Chapter I

Noise, Fuel Burn, and Emissions Modeling Using the Aviation Environmental Design Tool Version 2b

AGENCY: Federal Aviation Administration (FAA), DOT.

ACTION: Policy statement.

SUMMARY: This document provides a statement of FAA policy concerning the required use of the Aviation Environmental Design Tool version 2b (AEDT 2b) to analyze noise, fuel burn, and emissions for FAA actions. The policy statement is intended to ensure consistency and quality of analysis performed to assess noise, fuel burn, and emissions impacts of such actions under the National Environmental Policy Act of 1969 (NEPA), as amended, 42 U.S.C. 4321 et seq.

DATES: Effective May 29, 2015.

FOR FURTHER INFORMATION CONTACT: Fabio Grandi, Office of Environment and Energy (AEE), Federal Aviation Administration, 800 Independence Ave. SW., Washington, DC 20591; Telephone: (202) 267-9099.

SUPPLEMENTARY INFORMATION:

Background

FAA Order 1050.1, Environmental Impacts: Policies and Procedures, describes FAA policies and procedures for compliance with the National Environmental Policy Act (NEPA).

Aircraft noise, air pollutant emissions, and fuel burn are interdependent and occur simultaneously throughout all phases of flight. AEDT 2b is a comprehensive software tool that provides information to FAA stakeholders on each of these specific environmental impacts. AEDT 2b facilitates environmental review activities required under NEPA by consolidating the modeling of these environmental impacts in a single tool. For air traffic airspace and procedure actions, AEDT 2b replaces AEDT 2a, which was released by the FAA in March 2012. For other FAA actions, AEDT 2b replaces the Integrated Noise Model (INM) for analyzing aircraft noise and the Emissions and Dispersion Modeling System (EDMS) for developing emissions inventories and modeling emissions dispersion. AEDT 2b applies to analyses initiated after May 29, 2015.

Policy Statement

Effective May 29, 2015, AEDT 2b replaces AEDT 2a, INM, and EDMS as the required tool for noise, fuel burn, and emissions modeling of FAA actions. Consistent with current FAA policy and practice, the use of AEDT 2b is not required for projects whose analysis began before the effective date of this policy. In the event AEDT 2b is updated after the environmental analysis process is underway, the updated version may, but need not, be used to provide additional disclosure concerning noise, fuel burn, and emissions.

This policy statement is issued to ensure consistency and quality of analysis performed to comply with requirements under the National Environmental Policy Act of 1969 (NEPA), as amended, 42 U.S.C. 4321 et seq.

Issued in Washington, DC, on May 11, 2015.
Curtis Holsclaw,
Deputy Director, Office of Environment and Energy.

[FR Doc. 2015-11803 Filed 5-14-15; 8:45 am]

BILLING CODE 4910-13-P